FEDERAL COMMUNICATIONS COMMISSION

47 CFR Part 64

[CG Docket No. 17-59, WC Docket 17-97, FCC 22-37; FR ID 113860]

Advanced Methods To Target and Eliminate Unlawful Robocalls; Call Authentication Trust Anchor

AGENCY: Federal Communications Commission.

ACTION: Final rule; announcement of compliance date.

SUMMARY: In this document, the Federal Communications Commission (Commission or FCC) announces that the Office of Management and Budget (OMB) has approved the public information collection associated with a rule that requires gateway providers to block calls based on a “reasonable Do Not Originate (DNO) list,” and that compliance with the rule will be required. This document is consistent with the Sixth Report and Order in CG Docket No. 17-59, Fifth Report and Order in WC Docket No. 17-97, and Gateway Provider Report and Order, FCC 22-37 adopted on May 19, 2022 and released on May 20, 2022, which states the Commission will publish a document in the Federal Register announcing a compliance date for the rule section and revise the rules accordingly.

DATES:

Effective date: The amendment is effective December 19, 2022.

Compliance date: Compliance with 47 CFR 64.1200(o), published at 87 FR 42916, July 18, 2022, is required on December 19, 2022.

FOR FURTHER INFORMATION CONTACT: Jerusha Burnett, Consumer Policy Division, Consumer and Governmental Affairs Bureau, at (202) 418-0526, or email: Jerusha.Burnett@fcc.gov.

SUPPLEMENTARY INFORMATION: This document announces that OMB approved the information collection requirement in § 64.1200(o) on November 3, 2022.

The Commission publishes this document as an announcement of the compliance date of the rule.

If you have any comments on the burden estimates listed below, or how the Commission can improve the collections and reduce any burdens caused thereby, please contact Cathy Williams, Federal Communications Commission, Room 3.317, 45 L Street NE, Washington, DC 20554. Please include the OMB Control Number, 3060-1303, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

This document also removes § 64.1200(p) of the Commission's rules, which advised that compliance was not required until OMB approval was obtained.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received final OMB approval on July 20, 2022, for the information collection requirement contained in the modification to 47 CFR 64.1200(o).

Under 5 CFR 1320.5(b), an agency may not conduct or sponsor a collection of information unless it displays a current, valid OMB Control Number.

No person shall be subject to any penalty for failing to comply with a collection of information subject to the Paperwork Reduction Act that does not display a current, valid OMB Control Number. The OMB Control Number for the information collection requirement in 47 CFR 64.1200(o) is 3060-1306.

The foregoing notice is required by the Paperwork Reduction Act of 1995, Pubulic Law 104-13, October 1, 1995, and 44 U.S.C. 3507.

The total annual reporting burdens and costs for the respondents are as follows:

OMB Control Number: 3060-1306.

OMB Approval Date: November 3, 2022.

OMB Expiration Date: November 30, 2025.

Form Number: N/A.

Respondents: Business or other for-profit entities.

Number of Respondents: 6,493 respondents; 77,916 responses.

Estimated Time per Response: 1 hour.

Frequency of Response: On-occasion reporting requirement.

Obligation to Respond: Required to obtain or retain benefits. Statutory authority for these collections are contained in sections 4(i), 4(j), 201, 202, 217, 227, 227b, 251(e), 303(r), and 403 of the Communications Act of 1934, as amended, 47 U.S.C. 154(i), 201, 202, 217, 227, 227b, 251(e), 303(r), 403.

Total Annual Burden: 77,916 hours.

Total Annual Cost: No cost.

Needs and Uses: The notification and request for comments sought to establish a new information collection as it pertains to the Advanced Methods to Target and Eliminate Unlawful Robocalls Sixth Report and Order and Call Authentication Trust Anchor Fifth Report and Order (“Gateway Provider Report and Order”) (87 FR 42916, July 18, 2022). Unwanted and illegal robocalls have long been the Federal Communication Commission's (“Commission”) top source of consumer complaints and one of the Commission's top consumer protection priorities. Foreign-originated robocalls represent a significant portion of illegal robocalls, and gateway providers serve as a critical choke-point for reducing the number of illegal robocalls received by American consumers. In the Gateway Provider Report and Order, the Commission took steps to prevent these foreign-originated illegal robocalls from reaching consumers and to help track these calls back to the source. Along with further extension of the Commission's caller ID authentication requirements and Robocall Mitigation Database filing requirements, the Commission adopted several robocall mitigation requirements, including a requirement for gateway providers to respond to traceback within 24 hours, mandatory blocking requirements, a “know your upstream provider” requirement, and a general mitigation requirement.

Gateway Provider Report and Order, FCC 22-37, paras. 87-91, 47 CFR 64.1200(o).

A provider that serves as a gateway provider for particular calls must, with respect to those calls, block any calls purporting to originate from a number on a reasonable do-not-originate list. A list so limited in scope that it leaves out obvious numbers that could be included with little effort may be deemed unreasonable. The do-not-originate list may include only:

• Numbers for which the subscriber to which the number is assigned has requested that calls purporting to originate from that number be blocked because the number is used for inbound calls only;

• North American Numbering Plan numbers that are not valid;

• Valid North American Numbering Plan Numbers that are not allocated to a provider by the North American Numbering Plan Administrator; and

• Valid North American Numbering Plan numbers that are allocated to a provider by the North American Numbering Plan Administrator, but are unused, so long as the provider blocking the calls is the allocatee of the number and confirms that the number is unused or has obtained verification from the allocatee that the number is unused at the time of blocking.

This document also removes § 64.1200(p) of the Commission's rules, which advised that compliance was not required until OMB approval was obtained.

List of Subjects in 47 CFR Part 64

Carrier equipment, Communications common carriers, Reporting and recordkeeping requirements, Telecommunications, Telephone.

Federal Communications Commission.
Marlene Dortch,
Secretary, Office of the Secretary.

The Federal Communications Commission amends part 64 of title 47 of the Code of Federal Regulations as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

§ 64.1200 [Amended]

2. Amend § 64.1200 by removing paragraph (p).

[FR Doc. 2022-25148 Filed 11-17-22; 8:45 am]

BILLING CODE 6712-01-P